DEPARTMENT OF TRANSPORTATION

Federal Aviation Administration

14 CFR Part 71

[Docket No. FAA-2024-0485; Airspace Docket No. 23-ASW-16]

RIN 2120-AA66

Amendment of Jet Route J-183, United States Area Navigation (RNAV) Routes Q-4 and T-254, and Very High Frequency Omnidirectional Range (VOR) Federal Airways V-76, V-161, V-565, and V-568; Establishment of RNAV Route T-499; and Revocation of VOR Federal Airway V-558 in the Vicinity of Llano, TX

AGENCY: Federal Aviation Administration (FAA), DOT.

ACTION: Notice of proposed rulemaking (NPRM).

SUMMARY: This action proposes to amend Jet Route J-183, United States Area Navigation (RNAV) Routes Q-4 and T-254, and Very High Frequency Omnidirectional Range (VOR) Federal Airways V-76, V-161, V-565, and V-568; establish RNAV Route T-499; and revoke VOR Federal Airway V-558. The FAA is proposing this action due to the planned decommissioning of the VOR portion of the Llano, TX (LLO), VOR/Tactical Air Navigation (VORTAC) navigational aid (NAVAID). The Llano VOR is being decommissioned in support of the FAA's VOR Minimum Operational Network (MON) program.

DATES: Comments must be received on or before April 26, 2024.

ADDRESSES: Send comments identified by FAA Docket No. FAA-2024-0485 and Airspace Docket No. 23-ASW-16 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11H, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the National Airspace System as necessary to preserve the safe and efficient flow of air traffic.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the office of the Operations Support Group, Central Service Center, Federal Aviation Administration, 10101 Hillwood Parkway, Fort Worth, TX 76177.

Incorporation by Reference

Jet routes are published in paragraph 2004, RNAV routes (Q-routes) are published in paragraph 2006, VOR Federal airways are published in paragraph 6010(a), and RNAV routes (T-routes) are published in paragraph 6011 of FAA Order JO 7400.11, Airspace Designations and Reporting Points, which is incorporated by reference in 14 CFR 71.1 on an annual basis. This document proposes to amend the current version of that order, FAA Order JO 7400.11H, dated August 11, 2023, and effective September 15, 2023. These updates would be published in the next update to FAA Order JO 7400.11. That order is publicly available as listed in the ADDRESSES section of this document.

FAA Order JO 7400.11H lists Class A, B, C, D, and E airspace areas, air traffic service routes, and reporting points.

Background

The FAA is planning to decommission the VOR portion of the Llano, TX, VORTAC in October 2024. The Llano VOR is one of the candidate VORs identified for discontinuance by the FAA's VOR MON program and listed in the Final policy statement notice, “Provision of Navigation Services for the Next Generation Air Transportation System (NextGen) Transition to Performance-Based Navigation (PBN) (Plan for Establishing a VOR Minimum Operational Network),” published in the Federal Register on July 26, 2016 (81 FR 48694), Docket No. FAA-2011-1082.

Although the VOR portion of the Llano VORTAC is planned for decommissioning, the co-located Tactical Air Navigation (TACAN) portion of the NAVAID is being retained. The TACAN would continue to provide navigational service for military operations and Distance Measuring Equipment (DME) service supporting current and future NextGen PBN flight procedure requirements.

The Air Traffic Service (ATS) routes affected by the planned decommissioning of the Llano VOR are J-183, V-76, V-161, V-558, V-565, and V-568. With the planned decommissioning of the Llano VOR, the remaining ground-based NAVAID coverage in the area is insufficient to enable the continuity of the affected routes. As such, proposed modifications to J-183, V-76 and V-565 would result in the ATS routes being shortened; to V-161 would result in a third gap being added; to V-568 would result in the existing gap being expanded; and to V-558 would result in the airway being revoked.

To address the proposed amendments to the affected ATS routes, instrument flight rules (IFR) traffic could use J-86 in the high-altitude stratum or use V-66, V-68, V-77, and V-306 in the low-altitude stratum to navigate around the area affected by the planned decommissioning of the Llano VOR. Additionally, IFR pilots equipped with RNAV capabilities could also navigate using Q-4 (once amended), T-254 (once amended), T-466, and T-499 (proposed to be established) or point-to-point using the existing Fixes and waypoints (WP) that would remain in place to support continued operations though the affected area. Visual flight rules pilots who elect to navigate via the affected ATS routes could also take advantage of the adjacent conventional airways listed above, as well as the listed RNAV routes and point-to-point navigation, if properly equipped. Lastly, all aircraft have the option to request and receive radar vectors from air traffic control (ATC) to transit the affected area as well.

With the planned decommissioning of the Llano VOR, the FAA also plans to extend RNAV Routes Q-4 and T-254, and to establish RNAV Route T-499. The Q-4 and T-254 route extensions would mitigate the proposed amendments to J-183 between the Pecos, TX, VOR/Distance Measuring Equipment (VOR/DME) and the College Station, TX, VORTAC and to V-76 between the San Angelo, TX, VORTAC and the DILLO, TX, WP (located in the immediate vicinity of the Llano, TX, VORTAC). The new RNAV Route T-499 would mitigate the amendment to V-568 between the Corpus Christi, TX, VORTAC and the DILLO WP.

The Proposal

The FAA is proposing an amendment to 14 CFR part 71 to amend Jet Route J-183, RNAV Routes Q-4 and T-254, and VOR Federal Airways V-76, V-161, V-565, and V-568; establish RNAV Route T-499; and revoke VOR Federal Airway V-558. The FAA is proposing this action due to the planned decommissioning of the VOR portion of the Llano, TX, VORTAC. The proposed ATS route actions are described below.

J-183: J-183 currently extends between the El Paso, TX, VORTAC and the College Station, TX, VORTAC. The FAA proposes to remove the route segment between the Pecos, TX, VOR/DME and the College Station VORTAC. As amended, the route would be changed to extend between the El Paso VORTAC and the Pecos VOR/DME.

Q-4: Q-4 currently extends between the BOILE, CA, Fix and the El Paso, TX, VORTAC. The FAA proposes to extend the route eastward from the El Paso VORTAC to the College Station, TX, VORTAC to mitigate the proposed removal of the J-183 route segment addressed above. In addition, the FAA proposes to remove the ZEBOL, AZ, WP from the route description because it does not denote a route turn point of one degree or more and there is no published holding at the WP. However, the ZEBOL WP will continue to be depicted on the IFR En Route charts because it is used for ATC purposes. Lastly, the FAA proposes to make minor editorial corrections to the route description to list the state in which each route point is located, spell out the names of the navigational aids, and update the geographic coordinates of each route point to be expressed in degrees, minutes, seconds, and hundredths of a second. As amended, the route would be changed to extend between the BOILE Fix and the College Station VORTAC. The full Q-4 route description is listed in the regulatory text of this notice of proposed rulemaking.

V-76: V-76 currently extends between the Lubbock, TX, VORTAC and the Industry, TX, VORTAC. The FAA proposes to remove the airway segment between the San Angelo, TX, VORTAC and the Industry VORTAC. As amended, the airway would be changed to extend between the Lubbock VORTAC and the San Angelo VORTAC.

V-161: V-161 currently extends between the Three Rivers, TX, VORTAC and the Tulsa, OK, VORTAC; between the Butler, MO, VORTAC and the Gopher, MN, VORTAC; and between the International Falls, MN, VOR/DME and the Winnipeg, Manitoba (MB), Canada VORTAC, excluding the airspace within Canada. The FAA proposes to remove the airway segment between the Center Point, TX, VORTAC and the Millsap, TX, VORTAC. As amended, the airway would be changed to extend between the Three Rivers VORTAC and the Center Point VORTAC; between the Millsap VORTAC and the Tulsa VORTAC; between the Butler VORTAC and the Gopher VORTAC; and between the International Falls VOR/DME and the Winnipeg, MB, Canada VORTAC, excluding the airspace within Canada. Additional amendments to the airway have been proposed in a separate rulemaking action.

V-558: V-558 currently extends between the Llano, TX, VORTAC and the Industry, TX, VORTAC. The FAA proposes to remove the airway in its entirety.

V-565: V-565 currently extends between the Llano, TX, VORTAC and the Lufkin, TX, VORTAC. The FAA proposes to remove the airway segment between the Llano VORTAC and the Centex, TX, VORTAC. As amended, the airway would be changed to extend between the Centex VORTAC and the Lufkin VORTAC.

V-568: V-568 currently extends between the Corpus Christi, TX, VORTAC and the Llano, TX, VORTAC; and between the Millsap, TX, VORTAC and the Wichita Falls, TX, VORTAC. The FAA proposes to remove the airway segment between the Stonewall, TX, VORTAC and the Llano VORTAC. As amended, the airway would be changed to extend between the Corpus Christi VORTAC and the Stonewall VORTAC and between the Millsap VORTAC and the Wichita Falls VORTAC.

T-254: T-254 currently extends between the College Station, TX, VORTAC and the Lake Charles, LA, VORTAC. The FAA proposes to extend the route westward from the College Station VORTAC to the San Angelo, TX, VORTAC to mitigate a portion of the proposed V-76 airway segment removal between the San Angelo VORTAC and the Llano, TX, VORTAC. The route extension would include the DILLO, TX, WP; the KALLA, TX, Fix; and the DOWWD, TX, WP (being established). Additionally, the FAA proposes to replace the Lake Charles VORTAC route point with the KNZLY, LA, WP being established in the immediate vicinity of the Lake Charles VORTAC. Lastly, the FAA proposes to make minor editorial corrections to the route description to update the geographic coordinates of each route point to be expressed in degrees, minutes, seconds, and hundredths of a second. As amended, T-254 would extend between the San Angelo VORTAC and the KNZLY WP. The full T-254 route description is listed in the regulatory text of the notice of proposed rulemaking.

T-499: T-499 is a new RNAV route the FAA proposes to establish between the Corpus Christi, TX, VORTAC and the DILLO, TX, WP. This new T-route would provide RNAV routing between the Corpus Christi, TX, area and the Llano, TX, area to mitigate the proposed removal of the V-568 airway segment addressed above. The full T-499 route description is listed in the regulatory text of the notice of proposed rulemaking.

All NAVAID radials listed in the VOR Federal airway descriptions in the regulatory text of this notice of proposed rulemaking are unchanged and stated in degrees True north.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11H, Airspace Designations and Reporting Points, dated August 11, 2023, and effective September 15, 2023, is amended as follows:

Paragraph 2004 Jet Routes.

* * * * *

J-183 [Amended]

From El Paso, TX; to Pecos, TX.

* * * * *

Paragraph 2006 United States Area Navigation Routes.

* * * * *

Q-4 BOILE, CA to College Station, TX (CLL) [Amended]
BOILE, CA | FIX | (Lat. 34°25′20.78″ N, long. 118°01′33.07″ W).
HEDVI, AZ | WP | (Lat. 33°32′23.00″ N, long. 114°28′14.00″ W).
SCOLE, AZ | FIX | (Lat. 33°27′45.80″ N, long. 114°04′54.40″ W).
SPTFR, AZ | WP | (Lat. 33°23′49.00″ N, long. 113°43′29.00″ W).
SKTTR, AZ | WP | (Lat. 32°17′38.00″ N, long. 109°50′44.00″ W).
El Paso, TX (ELP) | VORTAC | (Lat. 31°48′57.28″ N, long. 106°16′54.78″ W).
Pecos, TX (PEQ) | VOR/DME | (Lat. 31°28′09.53″ N, long. 103°34′29.12″ W).
DILLO, TX | WP | (Lat. 30°47′46.76″ N, long. 098°47′13.91″ W).
College Station, TX (CLL) | VORTAC | (Lat. 30°36′18.01″ N, long. 096°25′14.45″ W).

* * * * *

Paragraph 6010(a) Domestic VOR Federal Airways.

* * * * *

V-76 [Amended]

From Lubbock, TX; INT Lubbock 188° and Big Spring, TX, 286° radials; Big Spring; to San Angelo, TX. From Centex, TX; to Industry, TX.

* * * * *

V-161 [Amended]

From Three Rivers, TX; to Center Point, TX. From Millsap, TX; Bowie, TX; Ardmore, OK; Okmulgee, OK; to Tulsa, OK. From Butler, MO; Napoleon, MO; Lamoni, IA; Des Moines, IA; Mason City, IA; Rochester, MN; Farmington, MN; to Gopher, MN. From International Falls, MN; to Winnipeg, MB, Canada, excluding the airspace within Canada.

* * * * *

V-558 [Removed]

* * * * *

V-565 [Amended]

From Centex, TX; College Station, TX; to Lufkin, TX.

* * * * *

V-568 [Amended]

From Corpus Christi, TX; INT Corpus Christi 296° and Three Rivers, TX, 165° radials; Three Rivers; INT Three Rivers 327° and San Antonio, TX, 183° radials; San Antonio; to Stonewall, TX. From Millsap, TX; to Wichita Falls, TX.

* * * * *

Paragraph 6011 United States Area Navigation Routes.

* * * * *

T-254 San Angelo, TX (SJT) to KNZLY, LA [Amended]
San Angelo, TX (SJT) | VORTAC | (Lat. 31°22′29.84″ N, long. 100°27′17.53″ W).
DILLO, TX | WP | (Lat. 30°47′46.76″ N, long. 098°47′13.91″ W).
KALLA, TX | FIX | (Lat. 30°43′15.88″ N, long. 098°04′38.46″ W).
DOWWD, TX | WP | (Lat. 30°44′58.33″ N, long. 097°06′12.22″ W).
College Station, TX (CLL) | VORTAC | (Lat. 30°36′18.01″ N, long. 096°25′14.45″ W).
EAKES, TX | WP | (Lat. 30°33′18.00″ N, long. 095°18′29.00″ W).
CREPO, TX | WP | (Lat. 30°16′54.00″ N, long. 094°14′43.00″ W).
KNZLY, LA | WP | (Lat. 30°08′29.48″ N, long. 093°06′19.37″ W).

* * * * *

T-499 Corpus Christi, TX (CRP) to DILLO, TX [New]
Corpus Christi, TX (CRP) | VORTAC | (Lat. 27°54′13.56″ N, long. 097°26′41.57″ W).
CARTI, TX | FIX | (Lat. 28°09′46.08″ N, long. 098°02′51.29″ W).
LEMIG, TX | FIX | (Lat. 28°58′37.91″ N, long. 098°30′03.52″ W).
San Antonio, TX (SAT) | VORTAC | (Lat. 29°38′38.51″ N, long. 098°27′40.74″ W).
Stonewall, TX (STV) | VORTAC | (Lat. 30°12′24.33″ N, long. 098°42′20.72″ W).
DILLO, TX | WP | (Lat. 30°47′46.76″ N, long. 098°47′13.91″ W).

* * * * *

Issued in Washington, DC, on March 7, 2024.
Frank Lias,
Manager, Rules and Regulations Group.

[FR Doc. 2024-05180 Filed 3-11-24; 8:45 am]

BILLING CODE 4910-13-P